DEPARTMENT OF COMMERCE

Foreign-Trade Zones Board

[B-18-2019]

Foreign-Trade Zone (FTZ) 47—Boone County, Kentucky; Notification of Proposed Production Activity; BWF America, Inc. (Textile/Felt Filter Bags and Other Filter Products for Industrial Use), Hebron, Kentucky

The Greater Cincinnati Foreign Trade Zone, Inc., grantee of FTZ 47, submitted a notification of proposed production activity to the FTZ Board on behalf of BWF America, Inc. (BWF), located in Hebron, Kentucky. The notification conforming to the requirements of the regulations of the FTZ Board (15 CFR 400.22) was received on March 21, 2019.

The applicant indicates that it will be submitting a separate application for FTZ designation at the BWF facility under FTZ 47. The facility is used for the production of textile/felt filter bags and other filter products for industrial applications. Pursuant to 15 CFR 400.14(b), FTZ activity would be limited to the specific foreign-status materials and components and specific finished products described in the submitted notification (as described below) and subsequently authorized by the FTZ Board.

Production under FTZ procedures could exempt BWF from customs duty payments on the foreign-status components used in export production. On its domestic sales, for the foreign-status materials/components noted below, BWF would be able to choose the duty rate during customs entry procedures that applies to textile/felt industrial filter bags, press filters, drum filters, press covers, filter belts, and filter discs (duty rate 3.8%). BWF would be able to avoid duty on foreign-status components which become scrap/waste. Customs duties also could possibly be deferred or reduced on foreign-status production equipment.

The components and materials sourced from abroad include: Hydrated lime with fluorescent pigment tracing powder; plastic laminated film seam tape; textile rollers/rings (polyester fibers needled together and rolled into circular forms); fiberglass rolled goods (woven textile fiberglass with a polytetrafluorethylene (PTFE) membrane film laminated as a top layer on the material); and, stainless steel wire cages (wire frames used in air filtration to support the filtration bags). Foreign-sourced components also include fiberglass thread and rolled felt of polyester, polyphenylene sulfide, aramid, polyimide, PTFE, and acrylic, each of which can have any one or more combinations of the following coatings/finishes (for the purposes of product performance—primarily heat and speed of emissions)—mechanical: singe, glaze; chemical: bath treatments, Teflon, acrylic, fluorocarbon, silicone; and, lamination: PTFE and PTFE membrane. The duty rates on components/materials range from duty-free to 10.6%. The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary at the address below. The closing period for their receipt is May 13, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: March 25, 2019.
Andrew McGilvray,
Executive Secretary.

[FR Doc. 2019-06215 Filed 3-29-19; 8:45 am]

BILLING CODE 3510-DS-P